DEPARTMENT OF HEALTH AND HUMAN SERVICES

National Institutes of Health

Eunice Kennedy Shriver National Institute of Child Health and Human Development; Amended Notice of Meeting

Notice is hereby given of a change in the meeting of the National Institute of Child Health and Human Development Special Emphasis Panel, July 14, 2009, 1 p.m. to July 14, 2009, 4:30 p.m., National Institutes of Health, 6100 Executive Boulevard, Rockville, MD 20852 which was published in the Federal Register on July 22, 2009, 74 FR 29499.

The meeting date has been changed to July 23, 2009, 1 p.m. to July 23, 2009, 4:30 p.m. The meeting is closed to the public.

Dated: June 26, 2009.
Anna Snouffer,
Deputy Director, Office of Federal Advisory Committee Policy.

[FR Doc. E9-15672 Filed 7-1-09; 8:45 am]

BILLING CODE 4140-01-P